DEPARTMENT OF JUSTICE

Parole Commission

Sunshine Act Meeting

Pursuant to the Government in the Sunshine Act (Public Law 94-409) [5 U.S.C. Section 552b]

AGENCY: Department of Justice, United States Parole Commission.

Time and Date: 9:30 a.m., Wednesday, June 18, 2003.

Place: 5550 Friendship Blvd., Fourth Floor, Chevy Chase, MD 20815.

Status: Open.

Matters to be Considered:

The following matters have been placed on the agenda for the open Parole Commission meeting:

1. Approval of Minutes of Previous Commission Meeting.

2. Reports from the Chairman, Commissioners, Legal, Chief of Staff, Case Operations, and Administrative Sections.

3. Consideration of amended interim rules for District of Columbia offenders on Supervised Release.

4. Consideration of final rules regarding the elimination of certain voting and notice procedures for Federal offenders, and the revision of a rule on determining the type of revocation hearing for a Federal parolee.

5. Discussion on proposal to amend 28 CFR 2.12(a) to permit earlier initial hearings in cases of parole ineligibility greater than 10 years.

FOR FURTHER INFORMATION CONTACT: Thomas W. Hutchison, Chief of Staff, United States Parole Commission, (301) 492-5990.

Dated: June 11, 2003.
Rockne Chickinell,
General Counsel, U.S. Parole Commission.

[FR Doc. 03-15213 Filed 6-12-03; 10:01 am]

BILLING CODE 4410-31-M